DEPARTMENT OF ENERGY

Federal Energy Regulatory Commission

Combined Notice of Filings #1

Take notice that the Commission received the following exempt wholesale generator filings:

Docket Numbers: EG22-158-000.

Applicants: CXA Temple 2, LLC.

Description: Notice of Self-Certification of Exempt Wholesale Generator Status of CXA Temple 2, LLC.

Filed Date: 7/7/22.

Accession Number: 20220707-5114.

Comment Date: 5 p.m. ET 7/28/22.

Take notice that the Commission received the following Complaints and Compliance filings in EL Dockets:

Docket Numbers: EL22-73-000.

Applicants: Nevada Power Company and Sierra Pacific Power Company.

Description: Petition for Declaratory Order of Nevada Power Company Sierra Pacific Power Company.

Filed Date: 6/30/22.

Accession Number: 20220630-5363.

Comment Date: 5 p.m. ET 8/1/22.

Take notice that the Commission received the following electric rate filings:

Docket Numbers: ER22-2144-001.

Applicants: Invenergy Nelson Expansion LLC.

Description: Tariff Amendment: Supplement to Market-Based Rate Application to be effective 9/5/2022.

Filed Date: 7/6/22.

Accession Number: 20220706-5104.

Comment Date: 5 p.m. ET 7/27/22.

Docket Numbers: ER22-2282-001.

Applicants: Southwest Power Pool, Inc.

Description: Tariff Amendment: 1276R26 Evergy Metro NITSA NOA to be effective 7/1/2022.

Filed Date: 7/7/22.

Accession Number: 20220707-5067.

Comment Date: 5 p.m. ET 7/28/22.

Docket Numbers: ER22-2292-000.

Applicants: Idaho Power Company.

Description: Compliance filing: Compliance Filing—Attachment P to be effective 9/12/2022.

Filed Date: 7/6/22.

Accession Number: 20220706-5109.

Comment Date: 5 p.m. ET 7/27/22.

Docket Numbers: ER22-2293-000.

Applicants: Dominion Energy South Carolina, Inc.

Description: Compliance filing: Order 881 Compliance Filing to be effective 7/12/2025.

Filed Date: 7/7/22.

Accession Number: 20220707-5039.

Comment Date: 5 p.m. ET 7/28/22.

Docket Numbers: ER22-2294-000.

Applicants: PJM Interconnection, L.L.C.

Description: § 205(d) Rate Filing: Amendment to ISA, SA No. 2961; Queue No. P11 (amend) to be effective 6/15/2011.

Filed Date: 7/7/22.

Accession Number: 20220707-5040.

Comment Date: 5 p.m. ET 7/28/22.

Docket Numbers: ER22-2295-000.

Applicants: Virginia Electric and Power Company, PJM Interconnection, L.L.C.

Description: § 205(d) Rate Filing: Virginia Electric and Power Company submits tariff filing per 35.13(a)(2)(iii: Dominion submits One WDSA, SA No. 6479 to be effective 11/15/2021.

Filed Date: 7/7/22.

Accession Number: 20220707-5060.

Comment Date: 5 p.m. ET 7/28/22.

Docket Numbers: ER22-721-001.

Applicants: Kennebec Lumber Company.

Description: Tariff Amendment: Application For Market Based Rate Authority to be effective 7/15/2022.

Filed Date: 7/7/22.

Accession Number: 20220707-5108.

Comment Date: 5 p.m. ET 7/28/22.

Docket Numbers: ER22-962-001.

Applicants: PJM Interconnection, L.L.C.

Description: Compliance filing: Response to the May 18, 2022 Request for Additional Information in ER22-962 to be effective N/A.

Filed Date: 7/7/22.

Accession Number: 20220707-5079.

Comment Date: 5 p.m. ET 7/28/22.

Docket Numbers: ER22-965-002.

Applicants: Covanta Delaware Valley, L.P.

Description: Tariff Amendment: Response to Deficiency Notice to be effective 3/1/2022.

Filed Date: 7/7/22.

Accession Number: 20220707-5159.

Comment Date: 5 p.m. ET 7/28/22.

Docket Numbers: ER22-966-002.

Applicants: Covanta Essex Company.

Description: Tariff Amendment: Response to Deficiency Notice to be effective 3/1/2022.

Filed Date: 7/7/22.

Accession Number: 20220707-5169.

Comment Date: 5 p.m. ET 7/28/22.

Docket Numbers: ER22-967-002.

Applicants: Covanta Fairfax, LLC.

Description: Tariff Amendment: Response to Deficiency Notice to be effective 3/1/2022.

Filed Date: 7/7/22.

Accession Number: 20220707-5171.

Comment Date: 5 p.m. ET 7/28/22.

Docket Numbers: ER22-968-002.

Applicants: Covanta Plymouth Renewable Energy, LLC.

Description: Tariff Amendment: Response to Deficiency Notice to be effective 3/1/2022.

Filed Date: 7/7/22.

Accession Number: 20220707-5174.

Comment Date: 5 p.m. ET 7/28/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 7, 2022.
Kimberly D. Bose,
Secretary.

[FR Doc. 2022-14923 Filed 7-12-22; 8:45 am]

BILLING CODE 6717-01-P